NUCLEAR REGULATORY COMMISSION

[NRC-2009-0296]

Exelon Corporation and NRG South Texas LP; Notice of Withdrawal of Application for Indirect Transfer of Control of Facility Operating Licenses South Texas Project, Units 1 and 2

The U.S. Nuclear Regulatory Commission (the Commission, NRC) has granted the request of Exelon Corporation (the applicant, Exelon) to withdraw its January 29, 2009, application, as supplemented by letter dated March 18, 2009, for the proposed indirect transfer of control of the following Facility Operating Licenses:

NRG South Texas LP (NRG South Texas) Units:

South Texas Project (STP), Units 1 and 2, Facility Operating License Nos. NPF-76 and NPF-80.

Exelon Generation Company, LLC (Exelon Generation Company) Units:

Braidwood Station, Units 1 and 2, Facility Operating License Nos. NPF-72 and NPF-77;

Byron Station, Units 1 and 2, Facility Operating License Nos. NPF-37 and NPF-66;

Clinton Power Station, Facility Operating License No. NPF-62;

Dresden Nuclear Power Station, Units 1, 2 and 3, Facility Operating License No. DPR-2 and Renewed Facility Operating License Nos. DPR-19 and DPR-25;

LaSalle County Station, Units 1 and 2, Facility Operating License Nos. NPF-11 and NPF-18;

Limerick Generating Station, Units 1 and 2, Facility Operating License Nos. NPF-39 and NPF-85;

Oyster Creek Generating Station, Facility Operating License No. DPR-16;

Peach Bottom Atomic Power Station, Units 1, 2 and 3, Facility Operating License No. DPR-12 and Renewed Facility Operating License Nos. DPR-44 and DPR-56;

Quad Cities Nuclear Power Station, Units 1 and 2, Renewed Facility Operating License Nos. DPR-29 and DPR-30;

Salem Generating Station, Units 1 and 2, Facility Operating License Nos. DPR-70 and DPR-75;

Three Mile Island Nuclear Station, Unit 1, Facility Operating License No. DPR-50; and

Zion Nuclear Power Station, Units 1 and 2, Facility Operating License Nos. DPR-39 and DPR-48.

The application sought NRC's consent to the indirect transfer of control of the NRC licenses for NRG South Texas' 44 percent ownership interest in STP, Units 1 and 2, and to the extent required, the Exelon Generation Company facilities' licenses as described in Exelon's January 29, 2009, application and supplemental letter dated March 18, 2009. As described in the application, the indirect transfer of STP would have occurred in connection with Exelon's plan to acquire control of NRG South Texas' parent, NRG Energy, Inc. (NRG), through a tender offer. A Notice of Hearing has not been issued subject to the application. This action relates to application for indirect transfer of control of licenses of STP, Units 1 and 2. The action related to Exelon's application for indirect transfer of Exelon Generation Company's units listed above is addressed in a separate action.

The Commission had previously issued Notice of Consideration of Approval of Application regarding proposed merger of NRG Energy, Inc. and Exelon Corporation published in the Federal Register on July 9, 2009 (74 FR 32967). However, by letter dated July 30, 2009, the applicant withdrew its application.

For further details with respect to this action, see the application dated January 29, 2009, as supplemented by letter dated March 18, 2009, the licensee's letter dated July 30, 2009, which withdrew the application, and the Commission's separate action for Exelon Generation Company's units, which is being published in the Federal Register in parallel with this action.

Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 1st day of September 2009.
For the Nuclear Regulatory Commission.
Mohan C. Thadani,
Senior Project Manager, Plant Licensing Branch IV, Division of Operating Reactor Licensing, Office of Nuclear Reactor Regulation.

[FR Doc. E9-21857 Filed 9-9-09; 8:45 am]

BILLING CODE 7590-01-P